ENVIRONMENTAL PROTECTION AGENCY

40 CFR Part 63

[EPA-HQ-OAR-2010-1041 and EPA-HQ-OAR-2010-1042; FRL-9920-26-OAR]

RIN 2060-AQ90

NESHAP Risk and Technology Review for the Mineral Wool and Wool Fiberglass Industries; NESHAP for Wool Fiberglass Area Sources; Extension of Comment Period

AGENCY: Environmental Protection Agency.

ACTION: Supplemental notice of proposed rulemaking; extension of public comment period.

SUMMARY: The Environmental Protection Agency (EPA) is announcing that the period for providing public comments on the November 13, 2014, supplemental proposed rule titled “NESHAP Risk and Technology Review for the Mineral Wool and Wool Fiberglass Industries; NESHAP for Wool Fiberglass Area Sources” is being extended for 30 days.

DATES: Comments. The public comment period for the supplemental proposed rule published in the Federal Register on November 13, 2014 (79 FR 68012), is being extended for 30 days to January 14, 2015.

ADDRESSES:

Comments. Written comments on the supplemental proposed rule may be submitted to EPA electronically, by mail, by facsimile or through hand delivery/courier. Please refer to the supplemental proposal (79 FR 68012) for the addresses and detailed instructions.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for these rulemakings are Docket ID Nos. EPA-HQ-OAR-2010-1041 (Mineral Wool Production) and EPA-HQ-OAR-2010-1042 (Wool Fiberglass Manufacturing).

World Wide Web. The EPA Web site for these rulemakings is http://www.epa.gov/ttn/atw/minwool/minwopg.html.

FOR FURTHER INFORMATION CONTACT: Ms. Susan Fairchild, Minerals and Manufacturing Group (D243-04), Sector Policies and Programs Division, Office of Air Quality Planning and Standards, U.S. Environmental Protection Agency, Research Triangle Park, North Carolina 27711; Telephone number: (919) 541-5167; Fax number (919) 541-5450; Email address: fairchild.susan@epa.gov.

SUPPLEMENTARY INFORMATION:

Comment Period

After considering the request received from North American Insulation Manufacturers Association (NAIMA) to extend the public comment period, the EPA has decided to extend the public comment period for an additional 30 days. Therefore, the public comment period will end on January 14, 2015, rather than December 15, 2014. This extension will help ensure that the public has sufficient time to review the proposed rule and the supporting technical documents and data available in the docket.

Dated: December 4, 2014.
Mary E. Henigin,
Acting Director, Office of Air Quality Planning and Standards.

[FR Doc. 2014-28820 Filed 12-9-14; 8:45 am]

BILLING CODE 6560-50-P